ENVIRONMENTAL PROTECTION AGENCY

[FRL-9109-1]

Science Advisory Board Staff Office; Request for Public Nominations of Experts To Conduct a Peer Review of EPA's Draft Document “An Advisory Value for Conductivity Using Field Data: An Adaptation of the U.S. EPA's Standard Methodology for Deriving Water Quality Criteria”

AGENCY: Environmental Protection Agency (EPA).

ACTION: Request for additional public nominations.

SUMMARY: The EPA Science Advisory Board (SAB) Staff Office is seeking public nomination of experts to conduct a peer review of EPA's draft document “An Advisory Value for Conductivity using Field Data: An Adaptation of the U.S. EPA's Standard Methodology for Deriving Water Quality Criteria”

DATES: Nominations should be submitted by February 17, 2010 per the instructions below.

FOR FURTHER INFORMATION CONTACT: Any member of the public wishing further information regarding this request for nominations may contact Mr. Edward Hanlon, Designated Federal Officer (DFO), SAB Staff Office, by telephone/voice mail at (202) 343-9946; by fax at (202) 233-0643 or via email at hanlon.edward@epa.gov. General information concerning the EPA Science Advisory Board can be found at the EPA SAB Web site at: http://www.epa.gov/sab. Any inquiry regarding EPA's Office of Research and Development (ORD) draft document entitled “An Advisory Value for Conductivity using Field Data: An Adaptation of the U.S. EPA's Standard Methodology for Deriving Water Quality Criteria” should be directed to Dr. Michael Slimak, ORD's Associate Director of Ecology, National Center for Environmental Assessment (NCEA), who may be contacted via telephone at (703) 347-8524 or by e-mail at slimak.michael@epa.gov.

SUPPLEMENTARY INFORMATION: Background: Recent published scientific information indicates that discharges from mountaintop mining and valley-fill operations in Southern Appalachia may be linked to degraded water quality and adverse impacts on in-stream biota. Discharges from surface coal mining, valley-fills and associated operations are regulated under the Clean Water Act (CWA) and under the Surface Mining Control and Reclamation Act of 1977 (SMCRA). Under the CWA, discharges from mountaintop mining and valley-fill operations require an NPDES permit that either meets technology-based effluent limits or water quality-based limits that are developed from ambient water quality criteria. Ambient Water Quality Criteria are developed for specific pollutants, and their application takes into account the conditions of a waterbody that are designed to protect the designated uses of the waterbody.

EPA's ORD has developed a report that uses field data to derive an aquatic life advisory value for conductivity (a measure of salinity) that may be applied to waters in the Appalachian Region that are dominated by salts of SO4²⁻ and HCO3−. This advisory value is intended to protect the biological integrity of waters in the region. It is derived by a method modeled on EPA's standard methodology for deriving water quality criteria. In particular, the methodology was adapted for use of field data.

ORD is requesting the SAB to peer review this draft conductivity document. In a Federal Register Notice (Volume 74, Number 185, Pages 48952—48953) published on September 25, 2009, the SAB Staff Office solicited public nominations for a proposed SAB expert Panel to provide advice on ORD's draft assessment of ecological impacts related to mountaintop mining and valley-fill operations. Since the mountaintop mining assessment report and the conductivity advisory document are related, the SAB Staff Office is forming one expert panel under the auspices of the SAB to cover the necessary expertise for the review of both reports.

Request for Nominations: In addition to the expertise previously sought in the above noted Federal Register Notice, the SAB Staff office is seeking public nominations of experts with nationally recognized expertise, knowledge, and experience in statistics with emphasis in management of empirical data sets associated with aquatic ecology or water quality criteria.

Process and Deadline for Submitting Nominations: Any interested person or organization may nominate qualified individuals in the areas of expertise described above for possible service on this expert ad hoc Panel. Nominations should be submitted in electronic format (which is preferred over hard copy) following the instructions for “Nominating Experts to Advisory Panels and Ad Hoc Committees Being Formed” provided on the SAB Web site. The instructions can be accessed through the “Nomination of Experts” link on the blue navigational bar on the SAB Web site at http://www.epa.gov/sab. To receive full consideration, nominations should include all of the information requested.

EPA's SAB Staff Office requests: contact information about the person making the nomination; contact information about the nominee; the disciplinary and specific areas of expertise of the nominee; the nominee's curriculum vita; sources of recent grant and/or contract support; and a biographical sketch of the nominee indicating current position, educational background, research activities, and recent service on other national advisory committees or national professional organizations.

Persons having questions about the nomination procedures, or who are unable to submit nominations through the SAB Web site, should contact Mr. Edward Hanlon, DFO, as indicated above in this notice. Nominations should be submitted in time to arrive no later than February 17, 2010.

The EPA SAB Staff Office will acknowledge receipt of nominations. The names and biosketches of qualified nominees identified by respondents to this Federal Register notice and to the September 25, 2009 Federal Register Notice (Volume 74, Number 185, Pages 48952—48953), and additional experts identified by the SAB Staff, will be posted in an Updated List of Candidates on the SAB Web site at http://www.epa.gov/sab. Public comments on this Updated List of Candidates will be accepted for 21 calendar days. The public will be requested to provide relevant information or other documentation on nominees that the SAB Staff Office should consider in evaluating candidates.

For the EPA SAB Staff Office, a balanced subcommittee or review panel includes candidates who possess the necessary domains of knowledge, the relevant scientific perspectives (which, among other factors, can be influenced by work history and affiliation), and the collective breadth of experience to adequately address the charge. In establishing this expert ad hoc Panel to provide advice on the ecological impacts related to mountaintop mining and valley-fill operations and on deriving an aquatic life ambient water quality advisory value for conductivity using field data, the SAB Staff Office will consider public comments on the List of candidates, information provided by the candidates themselves, and background information independently gathered by the SAB Staff Office. Selection criteria to be used for Panel membership include: (a) Scientific and/or technical expertise, knowledge, and experience (primary factors); (b) availability and willingness to serve; (c) absence of financial conflicts of interest; (d) absence of an appearance of a lack of impartiality; and (e) skills working in committees, subcommittees and advisory panels; and, for the Panel as a whole, (f) diversity of scientific expertise and viewpoints. EPA values and welcomes diversity. In an effort to obtain nominations of diverse candidates, EPA encourages nominations of women and men of all racial and ethnic groups.

The SAB Staff Office's evaluation of an absence of financial conflicts of interest will include a review of the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address http://www.epa.gov/sab/pdf/epaform3110-48.pdf.

The approved policy under which the EPA SAB Office selects subcommittees and review panels is described in the following document: Overview of the Panel Formation Process at the Environmental Protection Agency Science Advisory Board (EPA-SAB-EC-02-010), which is posted on the SAB Web site at http://www.epa.gov/sab/pdf/ec02010.pdf.

Dated: January 27, 2010.
Anthony F. Maciorowski,
Deputy Director, EPA Science Advisory Board Staff Office.

[FR Doc. 2010-2250 Filed 2-2-10; 8:45 am]

BILLING CODE 6560-50-P